RAILROAD RETIREMENT BOARD

Sunshine Act Meetings

TIME AND DATE: 10:00 a.m., April 24, 2024.

PLACE: Members of the public wishing to attend the meeting must submit a written request at least 24 hours prior to the meeting to receive dial-in information. All requests must be sent to SecretarytotheBoard@rrb.gov.

STATUS: This meeting will be open to the public.

MATTERS TO BE CONSIDERED:

Welcome/Introduction of New Deputy Director of Programs

Legislative and Budget Update—Office of Legislative Affairs

CONTACT PERSON FOR MORE INFORMATION: Stephanie Hillyard, Secretary to the Board, (312) 751-4920.

Authority: 5 U.S.C. 552b.

Dated: April 5, 2024.
Stephanie Hillyard,
Secretary to the Board.

[FR Doc. 2024-07645 Filed 4-8-24; 11:15 am]

BILLING CODE 7905-01-P